ENVIRONMENTAL PROTECTION AGENCY

[EPA-HQ-OPP-2020-0273; FRL-11117-01-OMS]

Agency Information Collection Activities; Submission to the Office of Management and Budget for Review and Approval; Comment Request; Consolidated Pesticide Registration Submission Portal (New)

AGENCY: Environmental Protection Agency (EPA).

ACTION: Notice.

SUMMARY: The Environmental Protection Agency (EPA) has submitted an information collection request (ICR), Consolidated Pesticide Registration Submission Portal, (EPA ICR Number 2624.01 and OMB Control Number 2070-NEW) to the Office of Management and Budget (OMB) for review and approval in accordance with the Paperwork Reduction Act. This is a request for approval of a new collection. Public comments were previously requested via the Federal Register on August 13, 2020 during a 60-day comment period. This notice allows for an additional 30 days for public comments.

DATES: Comments must be received on or before July 31, 2023.

ADDRESSES: Submit your comments, referencing Docket ID Number EPA-HQ-OPP-2020-0273, to EPA online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Office of Program Support (7602M), Office of Chemical Safety and Pollution Prevention, Environmental Protection Agency, 1200 Pennsylvania Ave. NW, Washington, DC 20460-0001; telephone number: (202) 566-1205; email address: siu.carolyn@epa.gov.

SUPPLEMENTARY INFORMATION: This is a request for approval of a new collection. An agency may not conduct or sponsor and a person is not required to respond to a collection of information unless it displays a currently valid OMB control number.

Public comments were previously requested via the Federal Register on August 13, 2020, during a 60-day comment period (85 FR 49366). This notice allows for an additional 30 days for public comments. Supporting documents, which explain in detail the information that the EPA will be collecting, are available in the public docket for this ICR. The docket can be viewed online at https://www.regulations.gov or in person at the EPA Docket Center, WJC West, Room 3334, 1301 Constitution Ave. NW, Washington, DC. The telephone number for the Docket Center is 202-566-1744. For additional information about EPA's public docket, visit http://www.epa.gov/dockets.

Abstract: This new ICR consolidates the collection activities and related burdens currently contained in eight ICRs that are approved by OMB under the PRA. The OMB Terms of Clearance for several of the existing ICRs directed EPA to consolidate these ICRs to simplify the burden presentation and calculations for the public due to the shared or anticipated collection method involving submissions via the Pesticide Submission Portal in EPA's Central Data Exchange (CDX). This consolidation is expected to clarify the capabilities of the Pesticide Submission Portal for respondents and will streamline the activities related to tracking the ICR renewal activities for both the public and EPA.

The new ICR covers the EPA pesticide registration collection activities supporting the statutorily mandated pesticide registration program under the Federal Insecticide Fungicide and Rodenticide Act (FIFRA) and the Federal Food, Drug, and Cosmetic Act (FFDCA), including the activities associated with pesticide registration; pesticide use; pesticide sale and distribution; pesticide permitting activities; determinations regarding whether a product must be regulated under FIFRA; and pesticide tolerances under the FFDCA.

Form numbers: 8570-1, 8570-4, 8570-5, 8570-17, 8570-25, 8570-27, 8570-34, 8570-35, 8570-36 and 8570-37.

Respondents/affected entities: Pesticide and other agricultural chemical manufacturing, research, and development in the physical, engineering, and life sciences, biological products (except diagnostic) manufacturing, colleges, universities, and professional schools, farm supplies wholesalers, flower, nursery stock, and florist's supplies wholesalers, state government, other chemical and allied product merchant wholesalers, exterminating and pest control service, management, scientific, and technical consulting services.

Respondent's obligation to respond: Mandatory under FIFRA and FFDCA.

Estimated number of respondents: 5,435 (total).

Frequency of response: On occasion.

Total estimated burden: 2,175,048 hours (per year). Burden is defined at 5 CFR 1320.3(b).

Total estimated cost: $183,517,210 (per year), which includes $0 annualized capital or operation & maintenance costs.

Changes in the estimates: This information collection combines the burdens from eight previously approved ICRs. The total combined respondent burden hours from those previously approved ICRs by OMB were estimated at 2,175,048 hours, the same amount requested for this ICR.

The total combined cost burden from these eight previously approved ICRs was $170,250,338. The total cost burden requested for this ICR is $183,157,210—a increase of $12,906,872. The difference between the current cost burden request and the previously approved requests is due only to adjustments in EPA's estimates of the wage rates and material costs that were revised to reflect 2022 dollars for this ICR.

Courtney Kerwin,
Director, Regulatory Support Division.

[FR Doc. 2023-13944 Filed 6-29-23; 8:45 am]

BILLING CODE 6560-50-P